INTERNATIONAL TRADE COMMISSION

[Investigation No. 337-TA-1296]

Notice of the Commission's Determination Not To Review an Initial Determination Terminating the Investigation on the Basis of Settlement; Termination of the Investigation; Certain Adalimumab, Processes for Manufacturing or Relating to Same, and Products Containing Same

AGENCY: U.S. International Trade Commission.

ACTION: Notice.

SUMMARY: Notice is hereby given that the U.S. International Trade Commission has determined not to review the presiding administrative law judge's (“ALJ”) initial determination (“ID”) (Order No. 6) terminating the investigation on the basis of settlement. The investigation is terminated.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 31, 2022, based on a complaint filed by AbbVie Inc. of Chicago, Illinois, AbbVie Biotechnology Ltd of Bermuda, and AbbVie Operations Singapore Pte. Ltd. of Singapore. 87 FR 4912-13 (Jan. 31, 2022). The complaint, as supplemented, alleged violations of section 337 of the Tariff Act of 1930, as amended, 19 U.S.C. 1337, based upon the importation into the United States, the sale of certain adalimumab, processes for manufacturing or relating to same, and products containing same by reason of the misappropriation of trade secrets and tortious interference with contractual relations, the threat or effect of which is to destroy or substantially injure an industry in the United States. The complaint, as amended, further alleged that a domestic industry exists. The notice of investigation named as respondents Alvotech hf. of Iceland; Alvotech Germany GmbH of Germany; Alvotech Swiss AG of Zurich, Switzerland; Alvotech USA Inc. of Arlington, Virginia, and Ivers-Lee AG of Bern, Switzerland. Id. The Office of Unfair Import Investigations (“OUII”) was also named as a party to the investigation. Id.

On March 11, 2022, the private parties jointly moved to terminate the investigation on the basis of settlement. OUII filed a response in support of the motion. On March 28, 2022, the presiding ALJ issued Order No. 6, granting the joint motion. The ID found that the parties complied with Commission Rule 210.21(b). The ID also found that termination of the investigation will not adversely affect the public interest. No one petitioned for review of the ID.

The Commission has determined not to review the ID. The investigation is terminated.

The Commission vote for this determination took place on April 12, 2022.

The authority for the Commission's determination is contained in section 337 of the Tariff Act of 1930, as amended (19 U.S.C. 1337), and in Part 210 of the Commission's Rules of Practice and Procedure (19 CFR part 210).

By order of the Commission.
Issued: April 12, 2022.
Lisa Barton,
Secretary to the Commission.

[FR Doc. 2022-08212 Filed 4-15-22; 8:45 am]

BILLING CODE 7020-02-P